DEPARTMENT OF ENERGY

Federal Energy Regulatory Commission

[Docket No. ER02-2566-000]

Virginia Electric and Power Company; Notice of Filing

September 24, 2002.

Take notice that on September 19, 2002, Virginia Electric and Power Company (Virginia Power), doing business as Dominion North Carolina Power (Dominion), tendered for filing with the Federal Energy Regulatory Commission (Commission) an executed letter agreement (Letter Agreement) between Dominion and the North Carolina Electric Membership Corporation setting forth a new delivery point to be incorporated into Virginia Power's First Revised Rate Schedule FERC No. 105. Dominion also tenders for filing a revised list of delivery points (Revised List) to reflect the addition of the new delivery point as set forth in the Letter Agreement.

Dominion respectfully requests that the Commission allow the Letter Agreement and Revised List to become effective on September 20, 2002.

Copies of the filing were served upon the North Carolina Electric Membership Corporation, the North Carolina Utilities Commission and the Virginia State Corporation Commission.

Any person desiring to intervene or to protest this filing should file with the Federal Energy Regulatory Commission, 888 First Street, NE, Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings. Comment Date: October 10, 2002.

Linwood A. Watson, Jr.,
Deputy Secretary.

[FR Doc. 02-25131 Filed 10-2-02; 8:45 am]

BILLING CODE 6717-01-P